DEPARTMENT OF COMMERCE

International Trade Administration

[C-533-844]

Certain Lined Paper Products From India: Notice of Rescission of Countervailing Duty Administrative Review: 2013

AGENCY: Enforcement and Compliance, International Trade Administration, Department of Commerce.

DATES: Effective Date: February 2, 2015.

FOR FURTHER INFORMATION CONTACT: John Conniff, Office III, AD/CVD Operations, Enforcement and Compliance, International Trade Administration, U.S. Department of Commerce, 14th Street and Constitution Avenue NW., Washington, DC 20230; telephone: (202) 482-1009.

SUPPLEMENTARY INFORMATION:

Background

On September 2, 2014, the Department of Commerce (the Department) published a notice of opportunity to request an administrative review of the countervailing duty order on certain lined paper products from India.¹ On September 30, 2014, Navneet Education Ltd. (Navneet) filed a timely request for review.² No other interested party submitted a review request for Navneet. The Department published in the Federal Register the notice of initiation of this countervailing duty administrative review, which included Navneet, for the period January 1, 2013, through December 31, 2013.³

¹ See Antidumping or Countervailing Duty Order, Finding, or Suspended Investigation; Opportunity To Request Administrative Review Initiation of Antidumping and Countervailing Duty Administrative Reviews, 79 FR 51958 (September 2, 2014).

² See Navneet's September 30, 2014, letter to the Department requesting a countervailing duty administrative review.

³ See Initiation of Antidumping and Countervailing Duty Administrative Reviews, 79 FR 64565 (October 30, 2014) (Initiation).

On December 12, 2014, Navneet submitted a timely withdrawal of its review request.⁴

⁴ See Navneet's December 12, 2014, letter withdrawing their request for a countervailing duty administrative review.

Rescission of the 2013 Administrative Review

Pursuant to 19 CFR 351.213(d)(1), the Secretary will rescind an administrative review, in whole or in part, if the parties that requested a review withdraw the request within 90 days of the date of publication of the notice of initiation of the requested review. The Department published the Initiation on October 30, 2014. Navneet's withdrawal request was submitted within the 90-day period following the publication of the Initiation and, thus, is timely. Therefore, in accordance with 19 CFR 351.213(d)(1) we are rescinding this review of the countervailing duty order on certain lined paper products from India with respect to Navneet, which was the only company that requested an administrative review. The petitioners ⁵ in the review did not request a review of any other Indian company.

⁵ Petitioners are the Association of American School Paper Suppliers.

Assessment

The Department will instruct U.S. Customs and Border Protection (CBP) to assess countervailing duties on all appropriate entries at a rate equal to the cash deposit of estimated countervailing duties required at the time of entry, or withdrawal from warehouse, for consumption, during the period January 1, 2013, through December 31, 2013, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: January 26, 2015.
Christian Marsh,
Deputy Assistant Secretary for Antidumping and Countervailing Duty Operations.

[FR Doc. 2015-01983 Filed 1-30-15; 8:45 am]

BILLING CODE 3510-DS-P